DEPARTMENT OF THE INTERIOR

Bureau of Land Management

[CA-610-1430-ER]

Notice of Realty Action—Riverside County, CA, Competitive Bidding for a Preference Right to Apply for a Right-of-way To Construct Wind-Energy Testing and/or Generating Facilities on Public Lands

AGENCY: Bureau of Land Management, Interior.

ACTION: Notice of realty action.

Authority: 43 CFR 2803.1-3(c).

SUMMARY: Beginning June 1, 2004, the Bureau of Land Management (BLM) will accept written bids to award a preference right to apply for a right-of-way to construct, operate and maintain wind-energy testing and/or generating facilities on approximately 285 acres of public lands described as a portion of section 28, T.3S., R.4E., San Bernardino Meridian.

DATES: Written bids will be accepted for a 45-day period beginning Tuesday June 1, 2004 and ending 3 p.m., Thursday July 15, 2004. The bidding period may be extended.

ADDRESSES: Initial written bids must be submitted to the Bureau of Land Management, Palm Springs—South Coast Field Office, 690 West Garnet Ave., P.O. Box 581260, North Palm Springs, CA 92258-1260.

FOR FURTHER INFORMATION CONTACT: Mr. Claude Kirby at the Palm Springs—South Coast Field Office, phone number (760) 251-4850.

SUPPLEMENTARY INFORMATION: The competitive bid process is described in greater detail in an Invitation For Bids (IFB) available from the Palm Springs South Coast Field Office at the address listed above. Bidding will end at 3 p.m., July 15, 2004, but may be extended as provided in the Invitation For Bids. The minimum initial bid is $5,000 and must be submitted on the bid form provided in the IFB. After submitting these items, qualified bidders will be assigned a bid number and may increase their bid in increments of $500 in writing or by facsimile to the Palm Springs—South Coast Field Office at (760) 251-4899, with no additional bid deposit required.

BLM will notify the selected qualified bidder and award a right to apply for a right-of-way to construct, operate and maintain wind-energy testing and/or generating facilities on the public lands described above. The selected qualified bidder will be obligated to pay the difference between the high bid and the initial bid deposit within 15 days of notification by BLM. The winning bid will be deposited with the U.S. Treasury and will not be returned. After the close of bidding, with the exception of the selected qualified bidder's deposit, all other bid deposits will be returned.

The right must be exercised within 60 days by submitting a right-of-way application, SF 299, with a plan of development to BLM for consideration. Detailed terms and conditions of any right-of-way grant will be determined through the environmental review process and are expected to include requirements for cost reimbursement, bonding, and habitat compensation. BLM provides no assurance that after consideration of any right-of-way application it will issue a favorable decision and grant a right-of-way on public lands. Bid forms and a complete description of the bid process are contained in an Invitation For Bids that will be available at the BLM Web site www.ca.blm.gov/palmsprings/.

Dated: March 2, 2004.
J. Anthony Danna,
Deputy State Director, Natural Resources.

[FR Doc. 04-7000 Filed 3-29-04; 8:45 am]

BILLING CODE 4310-40-P